DEPARTMENT OF THE INTERIOR

Bureau of Land Management

[NV-025-1232-EA); Special Recreation Permit # NV-025-04-01]

Notice of Temporary Closure of Public Lands: Pershing, Washoe, & Humboldt Counties, NV

AGENCY: Bureau of Land Management, Interior.

ACTION: Notice to the public of temporary closures on public lands administered by the Bureau of Land Management, Winnemucca Field Office, Nevada.

SUMMARY: Pursuant to 43 CFR 8364.1, notice is hereby given that certain public lands will be temporarily closed to all public use in and around the Paragon Astronautics rocket launch site, located in Pershing, Washoe and Humboldt counties, Nevada, from 0700 to 1200 hours, June 7th through June 11 and June 14 through June 18, 2004. These closures are being made in the interest of public safety at and around the location of an amateur high-altitude rocket launch site. This event is expected to attract approximately 50 participants. The public lands involved with the event are located northeast of Gerlach, Nevada in the Mount Diablo Meridian.

DATES: Closure to all public use from 0700-1200 hours, June 7 through June 11 and June 14 through June 18, 2004 with the exception of BLM personnel, law enforcement, emergency medical services, and Paragon Astronautics staff as designated by the BLM authorized officer.

ADDRESSES: A map showing these temporary closures, restrictions and prohibitions is available from the following BLM offices:

BLM-Winnemucca Field Office, 5100 East Winnemucca Blvd, Winnemucca, Nevada 89445-2921.

BLM-State Office, 1340 Financial Blvd., Reno, Nevada 89520-0006.

The map may also be viewed on the Winnemucca Field Office website at: www.nv.blm.gov/winnemucca. In addition, notice of this closure will be posted at the primary access points within the area to which the closure applies.

FOR FURTHER INFORMATION CONTACT: Dave Lefevre, National Conservation Area Outdoor Recreation Planner, Bureau of Land Management, Winnemucca Field Office, 5100 E Winnemucca Blvd, Winnemucca, NV 89445, telephone: (775) 623-1500 or e-mail at Dave_Lefevre@blm.gov.

SUPPLEMENTARY INFORMATION: The following Public Lands are closed to public use: Public land areas north of the Union Pacific Railroad tracks, and east of State Highway 34 and County Road 200, and west of the Pahute Peak and Black Rock Desert wilderness boundaries within the following legally described areas are included in the closure:

T33.5N, R24E sec. 25-28, 32-36; T33N R24E secs., 1-5, 8-22, 23 ,27-30; T33N, R25E sec. 2,3,4,9; T34N, R24E sec. 1-3, 10-15, 21-27, 34-36; T34N, R25E sec.1-4, 9-16, 21-28, 33-36; T34N, R26E sec. 1-24, 28-33; T34N, R27E sec. 1-18; T35.5N, R25E sec. 27-34; T35.5N, R26E sec. 25-36; T35N, R24E sec. 6,13, 22-27, 34-36; T35N, R25E sec. 1-4,9-16, 21-28, 33-36; All of T35N, R26E; All of T35N R27E; T36N R23.5E sec. 1; T36N, R24E sec. 5, 6, 8, 17, 30; T36N, R25E sec. 1-5, 8-18, 21-36; All of T36N, R26E; T36N, R27E sec. 4-9, 16-21, 28-33; T37N, R23.5E sec. 36; T37N, R24E sec. 11, 14, 23, 24, 30; T37N, R25E sec. 7, 22-27, 34-36; T37N, R26E sec. 19-36; T37N, R27E sec. 19-21, 28-33; T38N, R23E sec. 22.

Penalty

Any person failing to comply with the closure orders may be subject to imprisonment for not more than 12 months, or a fine in accordance with the applicable provisions of 18 U.S.C. 3571, or both.

Authority: 43 CFR 8364.1.

Terry A. Reed,
Field Manager.

[FR Doc. 04-11718 Filed 5-24-04; 8:45 am]

BILLING CODE 4310-HC-P